DEPARTMENT OF TRANSPORTATION

Federal Aviation Administration

14 CFR Part 97

[Docket No. 31323 Amdt. No. 3915]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 6, 2020. The compliance date for each SIAP, associated Takeoff Minimums, and ODP is specified in the amendatory provisions.

The incorporation by reference of certain publications listed in the regulations is approved by the Director of the Federal Register as of August 6, 2020.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal.

For the same reason, the FAA certifies that this amendment will not have a significant economic impact on a substantial number of small entities under the criteria of the Regulatory Flexibility Act.

List of Subjects in 14 CFR Part 97

Air Traffic Control, Airports, Incorporation by reference, Navigation (air).

Issued in Washington, DC, on July 24, 2020.
Wade E.K. Terrell,
Manager, Flight Procedures & Airspace Group.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 10 September 2020

Aniak, AK, Aniak, ILS OR LOC RWY 11, Amdt 1

Aniak, AK, Aniak, RNAV (GPS) RWY 11, Amdt 2

Point Hope, AK, Point Hope, NDB RWY 1, Amdt 2C, CANCELLED

Point Hope, AK, Point Hope, NDB RWY 19, Amdt 2C, CANCELLED

Haleyville, AL, Posey Field, VOR/DME RWY 18, Amdt 5C, CANCELLED

Prattville, AL, Prattville—Grouby Field, VOR/DME-A, Amdt 3C, CANCELLED

Tuskegee, AL, Moton Field Muni, VOR-A, Amdt 4B, CANCELLED

Wetumpka, AL, Wetumpka Muni, VOR-A, Amdt 2A, CANCELLED

Dumas, AR, Billy Free Muni, VOR/DME RWY 36, Amdt 3B, CANCELLED

Mena, AR, Mena Intermountain Muni, NDB RWY 27. Amdt 1B, CANCELLED

Chandler, AZ, Stellar Airpark, VOR-A, Amdt 1C

Grand Canyon, AZ, Valle, VOR/DME RWY 19, Orig-A, CANCELLED

Long Beach, CA, Long Beach/Daugherty Field, Takeoff Minimums and Obstacle DP, Amdt 6B

Modesto, CA, Modesto City-Co-Harry Sham FLD, VOR RWY 28R, Amdt 1, CANCELLED

Paso Robles, CA, Paso Robles Muni, RNAV (GPS) RWY 19, Amdt 2

Paso Robles, CA, Paso Robles Muni, RNAV (GPS) RWY 31, Amdt 1

Sacramento, CA Sacramento Mather, VOR RWY 4R, Orig-F, CANCELLED

Santa Rosa, CA, Charles M. Schulz—Sonoma County, VOR/DME RWY 14, Amdt 3B, CANCELLED

Pensacola, FL, Pensacola Intl, NDB RWY 35, Orig-A, CANCELLED

Cedartown, GA, Polk County Airport—Cornelius Moore Field, VOR-A, Amdt 13, CANCELLED

Dawson, GA, Dawson Muni, VOR RWY 32, Orig-D, CANCELLED

Lawrenceville, GA, Gwinnett County—Briscoe Field, VOR RWY 7, Amdt 2B, CANCELLED

Albia, IA, Albia Muni, VOR-A, Amdt 4A, CANCELLED

Winterset, IA, Winterset Muni, VOR/DME-A, Amdt 3, CANCELLED

Lewiston, ID, Lewiston-Nez Perce County, VOR RWY 8, Amdt 6, CANCELLED

Chicago, IL, Chicago O'Hare Intl, RNAV (GPS) RWY 4L, Amdt 2A, CANCELLED

Effingham, IL, Effingham County Memorial, VOR RWY 1, Amdt 10D, CANCELLED

Lake In The Hills, IL, Lake In The Hills, VOR-A, Orig, CANCELLED

Marion, IL, Veterans Airport Of Southern Illinois, NDB RWY 20, Amdt 10D, CANCELLED

Marion, IL, Veterans Airport Of Southern Illinois, VOR RWY 20, Amdt 17D, CANCELLED

Peoria, IL, Mount Hawley Auxiliary, VOR-A, Orig-B, CANCELLED

Michigan City, IN, Michigan City Muni-Phillips Field, VOR-A, Amdt 6, CANCELLED

Terre Haute, IN, Sky King, VOR-A, Amdt 7, CANCELLED

Atwood, KS, Atwood-Rawlins County City-County, RNAV (GPS) RWY 17, Amdt 1

Atwood, KS, Atwood-Rawlins County City-County, Takeoff Minimums and Obstacle DP, Orig-A

Burlington, KS, Coffey County, NDB RWY 36, Amdt 2A, CANCELLED

Junction City, KS, Freeman Field, NDB-B, Amdt 5B, CANCELLED

Wichita, KS, Colonel James Jabara, VOR-A, Amdt 4A, CANCELLED

Eunice, LA, Eunice, NDB RWY 16, Amdt 1A, CANCELLED

Eunice, LA, Eunice, VOR/DME-A, Amdt 3A, CANCELLED

Augusta, ME, Augusta State, VOR/DME-A, Amdt 12, CANCELLED

Adrian, MI, Lenawee County, NDB RWY 5, Orig-A, CANCELLED

Clare, MI, Clare Muni, VOR-A, Amdt 2A, CANCELLED

Greenville, MI, Greenville Muni, VOR-A, Amdt 3, CANCELLED

Cloquet, MN, Cloquet Carlton County, NDB RWY 18, Amdt 4B

Cloquet, MN, Cloquet Carlton County, NDB RWY 36, Amdt 5B

Cloquet, MN, Cloquet Carlton County, RNAV (GPS) RWY 18, Orig-B

Cloquet, MN, Cloquet Carlton County, RNAV (GPS) RWY 36, Amdt 1B

Cloquet, MN, Cloquet Carlton County, Takeoff Minimums and Obstacle DP, Amdt 3

Waseca, MN, Waseca Muni, VOR-A, Amdt 5, CANCELLED

Excelsior Springs, MO, Excelsior Springs Memorial, VOR-A, Orig, CANCELLED

Malden, MO, Malden Rgnl, VOR RWY 32, Amdt 9, CANCELLED

St Louis, MO, St Louis Lambert Intl, RNAV (RNP) Z RWY 30L, Amdt 1A

St Louis, MO, Creve Coeur, VOR-A, Amdt 5A, CANCELLED

Brookhaven, MS, Brookhaven-Lincoln County, VOR/DME-A, Amdt 9A, CANCELLED

Atkinson, NE, Stuart-Atkinson Muni, VOR/DME RWY 29, Amdt 1A, CANCELLED

David City, NE, David City Muni, VOR/DME RWY 32, Amdt 1A, CANCELLED

Minden, NE, Pioneer Village Field, VOR-A, Amdt 1, CANCELLED

Norfolk, NE, Norfolk Rgnl/Karl Stefan Memorial Fld, ILS OR LOC RWY 2, Amdt 6A

Norfolk, NE, Norfolk Rgnl/Karl Stefan Memorial Fld, RNAV (GPS) RWY 2, Amdt 2

Norfolk, NE, Norfolk Rgnl/Karl Stefan Memorial Fld, RNAV (GPS) RWY 14, Amdt 2

Norfolk, NE, Norfolk Rgnl/Karl Stefan Memorial Fld, RNAV (GPS) RWY 20, Amdt 2

Norfolk, NE, Norfolk Rgnl/Karl Stefan Memorial Fld, RNAV (GPS) RWY 32, Amdt 2

Norfolk, NE, Norfolk Rgnl/Karl Stefan Memorial Fld, Takeoff Minimums and Obstacle DP, Amdt 1

Norfolk, NE, Norfolk Rgnl/Karl Stefan Memorial Fld, VOR RWY 14, Amdt 8

Norfolk, NE, Norfolk Rgnl/Karl Stefan Memorial Fld, VOR RWY 19, Amdt 8A, CANCELLED

Norfolk, NE, Norfolk Rgnl/Karl Stefan Memorial Fld, VOR RWY 32, Amdt 8

Nashua, NH, Boire Field, VOR RWY 32, Orig-A, CANCELLED

Nashua, NH, Boire Field, VOR-A, Amdt 12A, CANCELLED

Blairstown, NJ, Blairstown, VOR RWY 25, Amdt 2A, CANCELLED

Manville, NJ, Central Jersey Rgnl, VOR-A, Amdt 7B, CANCELLED

Ocean City, NJ, Ocean City Muni, VOR-A, Orig-C, CANCELLED

Gallup, NM, Gallup Muni, VOR RWY 6, Amdt 8B

Silver City, NM, Grant County, LOC RWY 26, Amdt 5D

Silver City, NM, Grant County, RNAV (GPS) RWY 26, Orig-C

Tucumcari, NM, Tucumcari Muni, VOR RWY 26, Amdt 6A, CANCELLED

Cortland, NY, Cortland County-Chase Field, RNAV (GPS) RWY 6, Amdt 1

Cortland, NY, Cortland County-Chase Field, RNAV (GPS) RWY 24, Amdt 2

Montauk, NY, Montauk, VOR RWY 6, Amdt 4, CANCELLED

Monticello, NY, Sullivan County Intl, VOR RWY 33, Amdt 4, CANCELLED

Ashland, OH, Ashland County, VOR-A, Amdt 9D, CANCELLED

Middlefield, OH, Geauga County, VOR-A, Amdt 6, CANCELLED

Ada, OK, Ada Rgnl, Takeoff Minimums and Obstacle DP, Amdt 4A

Bristow, OK, Jones Memorial, RNAV (GPS) RWY 18, Amdt 2

Bristow, OK, Jones Memorial, RNAV (GPS) RWY 36, Amdt 2

Bristow, OK, Jones Memorial, Takeoff Minimums and Obstacle DP, Amdt 5

Goldsby, OK, David Jay Perry, VOR RWY 31, Amdt 2A, CANCELLED

Madill, OK, Madill Muni, VOR/DME-A, Amdt 3A, CANCELLED

Lakeview, OR, Lake County, VOR/DME-A, Orig-A, CANCELLED

Redmond, OR, Roberts Field, RNAV (GPS) Y RWY 5, Amdt 3A

Sunriver, OR, Sunriver, VOR RWY 18, Amdt 1D, CANCELLED

Grove City, PA, Grove City, VOR-A, Amdt 7A, CANCELLED

Greenville, SC, Donaldson Center, NDB RWY 5, Amdt 6A, CANCELLED

Dayton, TN, Mark Anton, NDB RWY 3, Amdt 2A, CANCELLED

Nashville, TN, Nashville Intl, VOR RWY 13, Amdt 13E, CANCELLED

Alpine, TX, Alpine-Casparis Muni, NDB RWY 19, Amdt 5D, CANCELLED

El Paso, TX, El Paso Intl, ILS OR LOC RWY 22, Amdt 32E

El Paso, TX, El Paso Intl, RNAV (GPS) Y RWY 22, Orig-F

El Paso, TX, El Paso Intl, RNAV (RNP) Z RWY 22, Amdt 1B

Fort Stockton, TX, Fort Stockton-Pecos County, VOR/DME RWY 30, Orig-B, CANCELLED

La Grange, TX, Fayette Regional Air Center, VOR/DME-A, Amdt 1B, CANCELLED

Muleshoe, TX, Muleshoe Municipal, VOR/DME-A, Amdt 1A, CANCELLED

Brookneal, VA, Brookneal/Campbell County, VOR-A, Amdt 2A, CANCELLED

Norfolk, VA, Hampton Roads Executive, ILS OR LOC RWY 10, Orig-A

Deer Park, WA, Deer Park, NDB-A, Amdt 2C, CANCELLED

Ephrata, WA, Ephrata Muni, VOR/DME RWY 3, Amdt 4, CANCELLED

New Holstein, WI, New Holstein Muni, VOR/DME-A, Amdt 2, CANCELLED

Moundsville, WV, Marshall County, VOR/DME-A, Amdt 2C, CANCELLED

RESCINDED: On July 13, 2020 (85 FR 41912), the FAA published an Amendment in Docket No. 31319 Amdt No. 3911, to Part 97 of the Federal Aviation Regulations under sections 97.33. The following Entry for Thief River Falls, MN, effective September 10, 2020, is hereby rescinded in its entirety:

Thief River Falls, MN, Thief River Falls Rgnl, RNAV (GPS) RWY 4, Orig-A

[FR Doc. 2020-17203 Filed 8-5-20; 8:45 am]

BILLING CODE 4910-13-P